DEPARTMENT OF HEALTH AND HUMAN SERVICES

Administration for Children and Families

Submission for OMB Review; Comment Request

Title: Early Head Start Research and Evaluation Project: 5th-Grade follow-Up.

OMB No.: 0970-0143.

Description: The Administration for Children and Families (ACF) within the Department of Health and Human Services (HHS) is requesting comments on plans to collect 5th-grade follow-up data on children recruited into the Early Head Start Research and Evaluation study. This study is being conducted to assess children and families when the children in the study will be 5th graders or attending the 6th year of their formal schooling. Because of the way children and families were initially recruited for the study, it will take three years to collect 5th-grade data from the full sample of children. About 30 percent of the sample will be 5th graders in spring 2007, 50 percent in spring 2008, and 20 percent in spring 2009. Data will be collected on a sample of approximately 1,900 children and families across all 17 of the Early Head Start research sites. Data collection will include a child assessment and a child interview, an interview with the child's primary caregiver (usually the child's mother), videotaping of mother-child interactions and a set of home observations, and a questionnaire to be completed by the child's 5th-grade teacher.

This data collection is necessitated by the mandates of the 1998 reauthorization of Head Start (Head Start Act, as amended, October 27, 1998, Section 649 (d) and (e)).

Respondents: Individuals or households.

Annual Burden Estimates

Instrument | Number of respondents | Number of responses per respondent | Average burden hours per response | Total burden hours
Year 1 (2007):
Parent Interview | 570 | 1 | 1.00 | 570
Child Assessment | 570 | 1 | 1.16 | 661
Child Interview | 570 | 1 | 0.25 | 143
Mother-Child Interaction | 1,140 | 1 | 0.25 | 285
Teacher Questionnaire | 570 | 1 | 0.50 | 285
Year 1 Total | 3,420 |  |  | 1,944
Year 2 (2008):
Parent Interview | 950 | 1 | 1.00 | 950
Child Assessment | 950 | 1 | 1.16 | 1,102
Child Interview | 950 | 1 | 0.25 | 238
Mother-Child Interaction | 1,900 | 1 | 0.25 | 475
Teacher Questionnaire | 950 | 1 | 0.50 | 475
Year 2 Total | 5,700 |  |  | 3,240
Year 3 (2009)
Parent Interview | 380 | 1 | 1.00 | 380
Child Assessment | 380 | 1 | 1.16 | 441
Child Interview | 380 | 1 | 0.25 | 95
Mother-Child Interaction | 760 | 1 | 0.25 | 190
Teacher Questionnaire | 380 | 1 | 0.50 | 190
Year 3 Total | 2,280 |  |  | 1,296

Estimated Total Burden Hours: 6,480.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reducing Project, 725 17th Street, NW., Washington, DC 20503, attn: Desk Officer for ACF, e-mail address: Katherine_T._Astrich@omb.eop.gov.

Dated: August 14, 2006.
Robert Sargis,
Reports Clearance Officer.

[FR Doc. 06-7014 Filed 8-17-06; 8:45 am]

BILLING CODE 4184-01-M